DEPARTMENT OF THE INTERIOR

Minerals Management Service

Notice of Workshop

AGENCY: Minerals Management Service (MMS), Interior.

ACTION: Notice of meeting/workshop.

SUMMARY: This notice announces that MMS will hold the International Offshore Pipeline Workshop 2003 (http://www.projectconsulting.com/workshop2003/index.htm). MMS will co-host the workshop with the U.S. Department of Transportation (DOT), Research and Special Programs Administration, Office of Pipeline Safety. The workshop is also supported by major oil and gas companies, offshore pipeline contractors, offshore service companies, and other related entities. The objective of the workshop is to bring together worldwide experience in operating and regulating offshore oil and gas activities in order to identify/disseminate pipeline issues and knowledge for continued safe and pollution free operations.

DATES: The workshop will be held on February 26-28, 2003, starting at 8 a.m. and ending at 5 p.m. on the first two days. The third day will be a half day with hours from 8:30 a.m. to noon. It will be held at the location listed in the ADDRESSES section.

ADDRESSES: New Orleans Marriott Hotel, 555 Canal Street, New Orleans, Louisiana 70130, U.S.A.

FOR FURTHER INFORMATION CONTACT: Ms. Tracy Olive, 3300 W. Esplanade Ave. S., Suite 500, Metairie, LA 70002, Phone: 504-833-5321, Fax: 504-833-4940, e-mail: workshop2003@projectconsulting.com.

SUPPLEMENTARY INFORMATION: The workshop, through its keynote addresses, theme presentations, working groups and networking will share worldwide pipeline operating knowledge and identify what critical pipeline issues still need to be addressed. The workshop will be 2.5 days in duration and structured to allow maximum interface among industry experts and general attendees to discuss major issues that affect the offshore pipeline industry worldwide. This will be accomplished by breaking out the attendees into various Working Groups to facilitate parallel discussions of all major industry issues. Working groups will be further broken down into sub-groups to maximize the coverage of major issues. This will allow individual attendees ample opportunity to provide their input and insights to actively participate in workgroup discussion. Participation will include international pipeline interest from the following: Government Agencies, Oil and Gas Industry, Consulting Firms, Construction Contractors, Fabrication Contractors, Manufacturers, Academic and Research Institutions, Other Related Entities.

Dated: December 19, 2002.
Bud Danenberger,
Chief, Engineering and Operations Division.

[FR Doc. 02-32936 Filed 12-27-02; 8:45 am]

BILLING CODE 4310-MR-P